DEPARTMENT OF COMMERCE

Bureau of Industry and Security

Materials and Equipment Technical Advisory Committee; Notice of Open Meeting

The Materials and Equipment Technical Advisory Committee will meet on March 30, 2023, 10 a.m., Eastern Daylight Time. The meeting will be virtual. The Committee advises the Office of the Assistant Secretary for Export Administration with respect to technical questions that affect the level of export controls applicable to materials and related technology.

Agenda

Open Session

1. Opening Remarks and Introduction by BIS Senior Management.

2. Report from working groups.

3. Report by regime representatives.

To join the conference, submit inquiries to Ms. Yvette Springer at Yvette.Springer@bis.doc.gov, no later than March 23, 2023.

To the extent time permits, members of the public may present oral statements to the Committee. Written statements may be submitted at any time before or after the meeting. However, to facilitate distribution of public presentation materials to Committee members, the materials should be forwarded prior to the meeting to Ms. Springer via email.

For more information, contact Ms. Springer via email.

Yvette Springer,
Committee Liaison Officer.

[FR Doc. 2023-04947 Filed 3-9-23; 8:45 am]

BILLING CODE 3510-JT-P